DEPARTMENT OF THE INTERIOR

National Park Service

[NPS-WASO-NRNHL-24055; PPWOCRADI0, PCU00RP14.R50000]

National Register of Historic Places; Notification of Pending Nominations and Related Actions

AGENCY: National Park Service, Interior.

ACTION: Notice.

SUMMARY: The National Park Service is soliciting comments on the significance of properties nominated before August 19, 2017, for listing or related actions in the National Register of Historic Places.

DATES: Comments should be submitted by October 4, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before August 19, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Tucson, Cornelia and Gila Bend Railroad Caboose No. 15, 330 E. Ryan Rd., Chandler, SG100001660

Bauder, Jean and Paul, House (Single Family Residential Architecture of Josias Joesler and John and Helen Murphey MPS), 4775 N. Camino Antonio, Tucson vicinity, MP100001661

CALIFORNIA

Contra Costa County

Nystrom Elementary School, 230 Harbor Way S., Richmond, SG100001662

Riverside County

Jefferson, Thomas, Elementary School, 1040 S. Vicentia Ave., Corona, SG100001663

San Francisco County

Sacred Heart Parish Complex, 546 and 554 Fillmore, 735 Fell & 660 Oak Sts., San Francisco, SG100001665

Sierra County

Sierraville School, 305 S. Lincoln St., Sierraville, SG100001666

Solano County

Benicia Southern Pacific Railroad Passenger Depot, 90 1st St., Benicia, SG100001664

FLORIDA

Hillsborough County

Oaklawn and St. Louis Cemeteries Historic District, 606 E. Harriston St., Tampa, SG100001668

Michigan Avenue Bridge (Florida's Historic Highway Bridges), Columbus Dr. over the Hillsborough R., Tampa, MP100001669

St. Johns County

Storm Wreck, Address Restricted, St. Augustine vicinity, SG100001671

ILLINOIS

Lake County

Buffalo Creek Bridge, Robert Parker Coffin Rd. over Buffalo Cr., Long Grove, SG100001672

IOWA

Black Hawk County

Cedar Falls Downtown Historic District (Iowa's Main Street Commercial Architecture MPS), 102-422 Main, 100 blk. E. & W. 2nd, 100 blk. E. & W. 3rd, 100 blk. E. 4th Sts., Cedar Falls, MP100001673

MAINE

Waldo County

Dark Harbor Shop, 515 Pendleton Point Rd., Islesboro, SG100001677

MISSISSIPPI

Harrison County

Mason, Dr. Gilbert R. Sr., Medical Office, 670 Division St., Biloxi, SG100001679

Jones County

Mason, William H. and Marian D., House, 1050 N. 6th Ave., Laurel, SG100001680

Monroe County

Saunders—Paine House, The, 309 S. Matubba St., Aberdeen, SG100001678

South Central Aberdeen Historic District (Boundary Increase II) (Aberdeen MRA) , Roughly bounded by Commerce, Burnett, rear property lines of Franklin & W. side of S. Matubba Sts., Aberdeen, BC100001681

Oktibbeha County

Oktibbeha Gardens Subdivision Historic District, Roughly bounded by Critz & N. Montgomery Sts., Old West Point Rd. & Dr. Martin Luther King Jr. Dr. E., Starkville, SG100001682

Rogers, Emma and Ed, House, Longview Rd., Starkville, SG100001684

Washington County

Weinberg House, 639 Central St., Greenville, SG100001683

MISSOURI

Buchanan County

Benton Club of St. Joseph, The 402 N. 7th St., St. Joseph, SG100001687

Butler County

Garfield Historic District, 914-916, 915, 921 Garfield St., Poplar Bluff, SG100001686

St. Louis County

Hawthorne, Nathaniel, Elementary School, 1351 N. Hanley Rd., University City, SG100001688

Nims Mansion, 2701 Finestown Rd., Oakville, SG100001689

St. Louis Independent city

Burgherr's Service Station, 1956 Utah St., St. Louis (Independent City), SG100001690

Publicity Building, The 1133 Pine St., St. Louis (Independent City), SG100001691

NEW MEXICO

Santa Fe County

El Camino Real de Tierra Adentro—La Bajada North Section (El Camino Real de Tierra Adentro MPS (AD)), Address Restricted, La Cienega vicinity, MP100001692

A request for removal has been made for the following resource(s):

FLORIDA

Pinellas County

Belleview-Biltmore Hotel, Off FL 697, Clearwater, OT79000687

MAINE

Androscoggin County

Worumbo Mill On the bank of the Androscoggin River, Lisbon Falls, OT73000235

Lincoln County

Reed, Co. Isaac G., House 60 Glidden St., Waldoboro, OT05000796

MISSISSIPPI

Claiborne County

Valley of the Moon Bridge (Historic Bridges of Mississippi TR), Willows Rd., where it crosses Bayou Pierre, 2 mi. SE of Willows Port Gibson vicinity, OT05000561

Additional documentation has been received for the following resource:

MAINE

Kennebec County

Hallowell Historic District (Additional Documentation) 4 Dummer Ln., Hallowell, AD70000076

Nominations submitted by Federal Preservation Officers:

The State Historic Preservation Officer reviewed the following nomination and responded to the Federal Preservation Officer within 45 days of receipt of the nomination and supports listing the property the National Register of Historic Places.

Additional documentation has been received for the following resource:

VIRGINIA

Richmond Independent city

Richmond National Battlefield Park, 3215 E. Broad St. Richmond (Independent City) vicinity, AD66000836

Authority: 60.13 of 36 CFR part 60.

Dated: August 25, 2017.
Julie H. Ernstein,
Acting Chief, National Register of Historic Places/National Historic Landmarks Program.

[FR Doc. 2017-19842 Filed 9-18-17; 8:45 am]

BILLING CODE 4312-52-P